SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: November 1-30, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals By Rule Issued Under 18 CFR 806.22(f)

1. Cabot Oil & Gas Corporation; Pad ID: FoltzJ P1, ABR-201311002.R1; Brooklyn Township, Susquehanna County, Pa.; Consumptive Use of Up to 4.2500 mgd; Approval Date: November 9, 2018.

2. Repsol Oil & Gas USA, LLC; Pad ID: DCNR 594 (02-201), ABR-201811001; Liberty Township, Tioga County, Pa.; Consumptive Use of Up to 6.0000 mgd; Approval Date: November 13, 2018.

3. Cabot Oil & Gas Corporation; Pad ID: AckerC P1, ABR-201311004.R1; Bridgewater Township, Susquehanna County, Pa.; Consumptive Use of Up to 4.2500 mgd; Approval Date: November 13, 2018.

4. Repsol Oil & Gas USA, LLC ; Pad ID: CLDC (02 177), ABR-201811002; Ward Township, Tioga County, Pa.; Consumptive Use of Up to 6.0000 mgd; Approval Date: November 19, 2018.

5. Cabot Oil & Gas Corporation; Pad ID: AndersonR P1, ABR-201311009.R1; Auburn Township, Susquehanna County, Pa.; Consumptive Use of Up to 4.2500 mgd; Approval Date: November 19, 2018.

6. Chesapeake Appalachia, L.L.C.; Pad ID: Pond Family; ABR-201811004; Wilmot Township, Bradford County, Pa.; Consumptive Use of Up to 7.5000 mgd; Approval Date: November 21, 2018.

7. Cabot Oil & Gas Corporation; Pad ID: PowersM P1, ABR-201811003; Auburn Township, Susquehanna County, Pa.; Consumptive Use of Up to 5.0000 mgd; Approval Date: November 26, 2018.

8. SWEPI LP; Pad ID: Sherman 492W, ABR-201310001.R1; Sullivan Township, Tioga County, Pa.; Consumptive Use of Up to 4.0000 mgd; Approval Date: November 30, 2018.

9. Range Resources—Appalachia, LLC; Pad ID: State Game Lands 075A—East Pad, ABR-201311005.R1; Pine Township, Lycoming County, Pa.; Consumptive Use of Up to 1.0000 mgd; Approval Date: November 30, 2018.

Authority: Pub. L. 91-575, 84 Stat. 1509 et seq., 18 CFR parts 806, 807, and 808.

Dated: December 19, 2018.
Jason E. Oyler,
Acting Secretary to the Commission.

[FR Doc. 2018-27929 Filed 12-21-18; 8:45 am]

BILLING CODE 7040-01-P